DEPARTMENT OF ENERGY

Federal Energy Regulatory Commission

[Docket No. CP05-1-000]

Eastern Shore Natural Gas Company; Notice of Application

October 28, 2004.

Take notice that on September 26, 2003, Eastern Shore Natural Gas Company, (Eastern Shore), pursuant to section 7(c) of the NGA, as amended, and part 157 of the Commission's Regulations an application for a certificate of public convenience and necessity to construct and operate a new Measurement and Regulating Station (M&R) in Seaford, Delaware, in order to continue providing service to an existing Eastern Shore customer, Chesapeake Utilities Corporation—Delaware Division (Chesapeake), all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Eastern Shore proposes to construct and operate the M&R station in an area north of Seaford, Delaware, off of Sussex County Road No. 532, approximately 200 feet from Eastern Shore's existing pipeline. Eastern Shore states that no additional system capacity will be created by the construction of the new M&R station. However, if the new station is not constructed and operable in a timely manner, Chesapeake may be unable to meet its full customer demand for natural gas in the upcoming winter heating season in this area. The estimated cost of the project is approximately $94,792 and will be paid for in its entirety by the customer.

Any questions regarding this application should be directed to Elaine B. Bittner, Director, Eastern Shore Natural Gas Company, 417 Bank Lane, Dover, Delaware 19904 at (302) 734-6710, ext. 6016.

There are two ways to become involved in the Commission's review of this project. First, any person wishing to obtain legal status by becoming a party to the proceedings for this project should, on or before the comment date file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: November 18, 2004.

Magalie R. Salas,
Secretary.

[FR Doc. E4-3069 Filed 11-5-04; 8:45 am]

BILLING CODE 6717-01-P